DEPARTMENT OF COMMERCE

National Oceanic and Atmospheric Administration

RIN 0648-XC583

Fisheries of the Exclusive Economic Zone Off Alaska; American Fisheries Act, Amendment 80 Program, Western Alaska Community Development Quota Program; Public Workshops

AGENCY: National Marine Fisheries Service (NMFS), National Oceanic and Atmospheric Administration (NOAA), Commerce.

ACTION: Notice of public workshops.

SUMMARY: NMFS announces two workshops to solicit input from participants in the pollock fishery in the Bering Sea authorized under the American Fisheries Act (AFA), the Aleutian Islands pollock fishery, the Amendment 80 trawl fisheries in the Bering Sea and Aleutian Islands, and the Western Alaska Community Development Quota (CDQ) Program. The workshops will address (1) The applicability of cost recovery fees mandated under section 304(d)(2) of the Magnuson-Stevens Fishery Conservation and Management Act (Magnuson-Stevens Act) to the AFA, Aleutian Islands pollock fishery, Amendment 80 Program, and CDQ Program, (2) an overview of the potential impacts of cost recovery programs, and (3) an overview of proposed regulatory approaches to implement cost recovery programs. The meeting is open to the public, but NMFS is particularly seeking participation by people who are knowledgeable about the AFA, Aleutian Islands pollock fishery, Amendment 80, and CDQ programs and who can discuss with NMFS the potential impacts of cost recovery programs and proposed regulatory approaches.

DATES: The first workshop will be held on Monday, May 13, 2013, from 10 a.m. to 2 p.m. Alaska daylight savings time.

The second workshop will be held on Tuesday, May 14, 2013, from 1 p.m. to 4 p.m. Pacific daylight savings time.

ADDRESSES: The first workshop will be held at the Old Federal Building, 605 W 4th Avenue, Suite 205, Anchorage, AK.

The second workshop will be held in the United Catcher Boats Conference Room at 4005 20th Ave. W., Suite 116, Fishermen's Terminal, Seattle, WA 98199.

FOR FURTHER INFORMATION CONTACT: Darrell Brannan, 352-562-4388, or Glenn Merrill, 907-586-7228.

SUPPLEMENTARY INFORMATION: The meeting will address several issues regarding the proposed cost recovery fee that are of interest to stakeholders and will provide an opportunity for those individuals to comment. Issues to be addressed include:

• Why the cost recovery fee would be implemented and under what authority;

• Why these fisheries would be included in the proposed program and not others;

• How costs would be determined, how will they would be used, and what are they estimated to be give current information;

• What landings would be subject to a cost recovery fee;

• How the standard ex-vessel price would be determined for each species subject to the fee;

• Who would be responsible for payment of the fee liability;

• What is the timeframe for implementation; and

• What is the role of the North Pacific Fishery Management Council (Council) in this process?

NMFS plans to present a draft analysis of the potential effects of cost recovery fee programs to the Council at its meeting scheduled from June 3 through 11 in Juneau, Alaska. These workshops will provide stakeholders information before the Council meeting so that they have the opportunity to present any concerns to the Council and NMFS. Input from the public received at these workshops and the Council will help inform NMFS as it prepares proposed regulations pursuant to section 305(d) of the Magnuson-Stevens Act.

This meeting is open to the public, but NMFS is particularly seeking participation by people who are knowledgeable about the AFA, Aleutian Islands pollock fishery, Amendment 80 Program, and CDQ Program.

Special Accommodations

The meeting will be physically accessible to people with disabilities. Requests for sign language interpretation or other auxiliary aids should be directed to Glenn Merrill, 907-586-7228, at least 10 workdays prior to the meeting date.

Dated: April 26, 2013.
Kara Meckley,
Acting Deputy Director, Office of Sustainable Fisheries, National Marine Fisheries Service.

[FR Doc. 2013-10303 Filed 4-30-13; 8:45 am]

BILLING CODE 3510-22-P